DEPARTMENT OF TRANSPORTATION

Federal Aviation Administration

14 CFR Part 39

[Docket No. FAA-2017-0690; Product Identifier 2017-NM-061-AD; Amendment 39-19107; AD 2017-24-03]

RIN 2120-AA64

Airworthiness Directives; Airbus Airplanes

AGENCY: Federal Aviation Administration (FAA), Department of Transportation (DOT).

ACTION: Final rule.

SUMMARY: We are removing Airworthiness Directive (AD) 2017-01-06, which applied to certain Airbus Model A319-115, A319-132, A320-214, A320-232, A321-211, A321-213, and A321-231 airplanes. AD 2017-01-06 required inspection and replacement of certain tie rod assemblies installed on the hinged fairing assembly of the main landing gear (MLG). We issued AD 2017-01-06 to detect and correct the absence of cadmium plating on the rod end threads of the tie rod assemblies. Since we issued AD 2017-01-06, we have determined that although cadmium plating might be absent, the rod end threads of the tie rod assemblies can withstand the expected environmental conditions, therefore the unsafe condition, as initially determined, does not exist.

DATES: This AD is effective January 2, 2018.

ADDRESSES: For service information identified in this final rule, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Standards Branch, 1601 Lind Avenue SW., Renton, WA. For information on the availability of this material at the FAA, call 425-227-1221. It is also available on the Internet at http://www.regulations.gov by searching for and locating Docket No. FAA-2017-0690.

Examining the AD Docket

You may examine the AD docket on the Internet at http://www.regulations.gov by searching for and locating Docket No. FAA-2017-0690; or in person at the Docket Management Facility between 9 a.m. and 5 p.m., Monday through Friday, except Federal holidays. The AD docket contains this AD, the regulatory evaluation, any comments received, and other information. The address for the Docket Office (telephone 800-647-5527) is Docket Management Facility, U.S. Department of Transportation, Docket Operations, M-30, West Building Ground Floor, Room W12-140, 1200 New Jersey Avenue SE., Washington, DC 20590.

FOR FURTHER INFORMATION CONTACT: Sanjay Ralhan, Aerospace Engineer, International Section, Transport Standards Branch, FAA, 1601 Lind Avenue SW., Renton, WA 98057-3356; telephone 425-227-1405; fax 425-227-1149.

SUPPLEMENTARY INFORMATION:

Discussion

We issued a notice of proposed rulemaking (NPRM) to amend 14 CFR part 39 to remove AD 2017-01-06, Amendment 39-18773 (82 FR 4773, January 17, 2017) (“AD 2017-01-06”). AD 2017-01-06 applied to certain Airbus Model A319-115, A319-132, A320-214, A320-232, A321-211, A321-213, and A321-231 airplanes. The NPRM published in the Federal Register on July 17, 2017 (82 FR 32650). The NPRM was prompted by our determination that, although cadmium plating might be absent, the rod end threads of the tie rod assemblies installed on the hinged fairing assembly of the MLG can withstand the expected environmental conditions, therefore the unsafe condition, as initially determined, does not exist. The NPRM proposed to remove AD 2017-01-06. We are issuing this AD to remove AD 2017-01-06.

The European Aviation Safety Agency (EASA) which is the Technical Agent for the Member States of the European Union, has issued EASA Airworthiness Directive 2015-0234-CN, dated April 28, 2017 (referred to after this as the Mandatory Continuing Airworthiness Information, or “the MCAI”), to cancel EASA AD 2015-0234-CN, which applied to certain Airbus Model A319-115, A319-132, A320-214, A320-232, A321-211, A321-213, and A321-231 airplanes. The MCAI states:

A production quality issue was identified concerning tie rod assemblies, having [a] Part Number starting with D52840212000 or D52840212002, which are installed on the main landing gear (MLG) hinged fairing assembly. This quality issue affects the cadmium plating surface treatment which was inadvertently omitted from the rod end threads of the assembly. The absence of cadmium plating reduces the corrosion protection scheme.

This condition, if not detected and corrected, was initially assessed as leading to galvanic corrosion of the tie rod end threads, possibly resulting in rod end failure, loss of a MLG door, and consequent injury to persons on ground.

To address this unsafe condition, Airbus identified the affected MSN [manufacturer serial number] and issued SB A320-52-1167 to provide inspection instructions.

Consequently, EASA issued AD 2015-0234 [which corresponds to FAA AD 2017-01-06], requiring a one-time inspection of the affected MLG hinged fairing tie rod assemblies, and, depending on findings, replacement of the affected tie rod assembly.

Since that [EASA] AD was issued, tests performed by the tie rod assembly manufacturers determined that the assemblies, even without cadmium plating surface treatment on the rod end threads, can withstand the expected environmental conditions. The consequence is that the unsafe condition, as initially determined, does not exist.

For the reasons described above, this Notice cancels EASA AD 2015-0234.

You may examine the MCAI in the AD docket on the Internet at http://www.regulations.gov by searching for and locating Docket No. FAA-2017-0690.

Comments

We gave the public the opportunity to participate in developing this AD. We received no comments on the NPRM or on the determination of the cost to the public.

Conclusion

We reviewed the available data and determined that air safety and the public interest require adopting this AD as proposed except for minor editorial changes. We have determined that these minor changes:

• Are consistent with the intent that was proposed in the NPRM for correcting the unsafe condition; and

• Do not add any additional burden upon the public than was already proposed in the NPRM.

Related Costs of Compliance

AD 2017-01-06 affected about 20 airplanes of U.S. registry. The estimated cost of the actions required by AD 2017-01-06 for U.S. operators was $3,400, or $170, per product. Removing AD 2017-01-06 eliminates those costs.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2017-01-06, Amendment 39-18773 (82 FR 4773, January 17, 2017), and adding the following new AD:

2017-24-03 Airbus: Amendment 39-19107; Docket No. FAA-2017-0690; Product Identifier 2017-NM-061-AD.

(a) Effective Date

This rescission is effective January 2, 2018.

(b) Affected AD

This action removes AD 2017-01-06, Amendment 39-18773 (82 FR 4773, January 17, 2017).

(c) Applicability

This action applies to Airbus Model A319-115, A319-132, A320-214, A320-232, A321-211, A321-213, and A321-231 airplanes, certificated in any category, as identified in Airbus Service Bulletin A320-52-1167, dated August 6, 2015.

(d) Related Information

(1) Refer to Mandatory Continuing Airworthiness Information (MCAI) AD 2015-0234-CN, dated April 28, 2017, for related information. This MCAI may be found in the AD docket on the Internet at http://www.regulations.gov by searching for and locating Docket No. FAA-2017-0690.

(2) For more information about this AD, contact Sanjay Ralhan, Aerospace Engineer, International Section, Transport Standards Branch, FAA, 1601 Lind Avenue SW., Renton, WA 98057-3356; telephone 425-227-1405; fax 425-227-1149.

(e) Material Incorporated by Reference

None.

Issued in Renton, Washington, on November 15, 2017.
Jeffrey E. Duven,
Director, System Oversight Division, Aircraft Certification Service.

[FR Doc. 2017-25253 Filed 11-27-17; 8:45 am]

BILLING CODE 4910-13-P